DEPARTMENT OF COMMERCE

National Oceanic and Atmospheric Administration

[RTID 0648-XA537]

Fisheries of the South Atlantic; South Atlantic Fishery Management Council; Public Meetings

AGENCY: National Marine Fisheries Service (NMFS), National Oceanic and Atmospheric Administration (NOAA), Commerce.

ACTION: Notice of a public meeting.

SUMMARY: The South Atlantic Fishery Management Council (Council) will convene a meeting of the South Atlantic Selectivity Workgroup via webinar to address gear selectivity for fishery stock assessments for species managed by the Council.

DATES: The South Atlantic Selectivity Workgroup meeting will be held via webinar on Tuesday, October 27, 2020, from 1 p.m. until 5 p.m.

ADDRESSES:

Meeting address: The meeting will be held via webinar. The webinar is open to members of the public. Information, including a link to webinar registration and meeting materials will be posted on the Council's website at: https://safmc.net/safmc-meetings/other-meetings/ as it becomes available.

Council address: South Atlantic Fishery Management Council, 4055 Faber Place Drive, Suite 201, N Charleston, SC 29405.

FOR FURTHER INFORMATION CONTACT: Chip Collier, Deputy Director for Science, SAFMC; phone: (843) 302-8444 or toll free: (866) SAFMC-10; fax: (843) 769-4520; email: chip.collier@safmc.net.

SUPPLEMENTARY INFORMATION: The South Atlantic Selectivity Workgroup consists of scientists with expertise in selectivity or gears used in fisheries in the South Atlantic region including members of the Council's Scientific and Statistical Committee chosen to participate. The Workgroup will provide recommendations on selectivity for species managed by the Council for consideration in upcoming stock assessments.

Agenda items include:

1. Review working papers developed by the South Atlantic Selectivity Workgroup on selectivity;

2. Provide recommendations on selectivity for Red Snapper, Vermilion Snapper; and Black Sea Bass;

3. Review and address the Terms of Reference for the Workgroup;

4. Review sections of the Workgroup report; and

5. Assign sections to Workgroup members.

Special Accommodations

The meeting is physically accessible to people with disabilities. Requests for auxiliary aids should be directed to the council office (see ADDRESSES) 5 days prior to the meeting.

Note: The times and sequence specified in this agenda are subject to change.

Authority: 16 U.S.C. 1801 et seq.

Dated: October 5, 2020.
Tracey L. Thompson,
Acting Deputy Director, Office of Sustainable Fisheries, National Marine Fisheries Service.

[FR Doc. 2020-22301 Filed 10-7-20; 8:45 am]

BILLING CODE 3510-22-P